NATIONAL SCIENCE FOUNDATION

Advisory Committee for Small Business Industrial Innovation; Notice of Meeting

In accordance with the Federal Advisory Committee Act (Pub. L. 92-463, as amended), the National Science Foundation announces the following meeting:

Name: Advisory Committee for Small Business Industrial Innovation (SBIR)/Small Business Technology Transfer (STTR)—(61).

Date/Time: June 19-20, 2001, 8:30 am-5:00 pm.

Type of Meeting: Open.

Place: Room 120, National Science Foundation, 4201 Wilson Boulevard, Arlington, VA.

Contact Person: Dr. Joseph Hennessey, Acting Director, Industrial Innovation, (703) 292-7069, National Science Foundation, 4201 Wilson Boulevard, Arlington, VA 22230.

Minutes: May be obtained from the contact person listed above.

Purpose of Committee: To provide advice and recommendations concerning research programs pertaining to the small business community.

Agenda: June 19, 2001, Room 120

8:30 am—Introductions

8:35 am—Welcome

8:45 am—Overview

9:00 am—COV Report and Discussion

10:30 am—Break

11:00 am—COV Report and Discussion (cont.)

12:00 noon—Lunch

1:00 pm—COV Response

2:30 pm—EPSCoR/SBIR Collaboration

3:00 pm—Break

3:30 pm—2001 Update

5:00 pm—Adjourn

Agenda: June 20, 2001, Room 120

8:30 am—Preparation of Committee Report

10:00 am—Break

10:30 am—Feedback from the Committee

12:00 noon—Adjourn

Dated: May 29, 2001.
Susanne Bolton,
Committee Management Officer.

[FR Doc. 01-13874 Filed 6-1-01; 8:45 am]

BILLING CODE 7555-01-M